DEPARTMENT OF TRANSPORTATION

Federal Railroad Administration

[Docket No. FRA-2010-0005-N-19]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking approval of the following information collection activities. Before submitting these information collection requirements for clearance by the Office of Management and Budget (OMB), FRA is soliciting public comment on specific aspects of the activities identified below.

DATES: Comments must be received no later than December 17, 2010.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Kimberly Toone, Office of Information Technology, RAD-20, Federal Railroad Administration, 1200 New Jersey Ave., SE., Mail Stop 35, Washington, DC 20590. Commenters requesting FRA to acknowledge receipt of their respective comments must include a self-addressed stamped postcard stating, “Comments on OMB control number 2130-___.” Alternatively, comments may be transmitted via facsimile to (202) 493-6216 or (202) 493-6497, or via e-mail to Mr. Brogan at Robert.Brogan@dot.gov, or to Ms. Toone at Kimberly.Toone@dot.gov. Please refer to the assigned OMB control number or collection title in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 17, Washington, DC 20590 (telephone: (202) 493-6292) or Ms. Kimberly Toone, Office of Information Technology, RAD-20, Federal Railroad Administration, 1200 New Jersey Ave., SE., Mail Stop 35, Washington, DC 20590 (telephone: (202) 493-6132). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR part 1320, require Federal agencies to provide 60 days' notice to the public for comment on information collection activities before seeking approval by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of current information collection activities that FRA will submit for clearance by OMB as required under the PRA:

Title: Safety Integration Plans.

OMB Control Number: 2130-0557.

Abstract: The Federal Railroad Administration (FRA) and the Surface Transportation Board (STB), working in conjunction with each other, have issued joint final rules establishing procedures for the development and implementation of safety integration plans (“SIPs” or “plans”) by a Class I railroad proposing to engage in certain specified merger, consolidation, or acquisition of control transactions with another Class I railroad, or a Class II railroad with which it proposes to amalgamate operations. The scope of the transactions covered under the two rules is the same. FRA uses the information collected, notably the required SIPs, to maintain and promote a safe rail environment by ensuring that affected railroads (Class Is and some Class IIs) address critical safety issues unique to the amalgamation of large, complex railroad operations.

Form Number(s): N/A.

Affected Public: Railroads.

Respondent Universe: Class I Railroads.

Frequency of Submission: On occasion.

CFR Section | Respondent universe | Total annual responses | Average time per response | Total annual burden hours | Total annual burden cost
244.13—Safety Integration Plans: Amalgamation of Operations —SIP Development & Quarterly Meetings | 8 railroads | 1 plan | 340 hours | 340 | $24,016
244.17—Procedures —Responses to FRA Inquiries Re: SIP data —Coordination in Implementing Approved SIP —Request for Confidential Treatment | 8 railroads 8 railroads 8 railroads 8 railroads | 25 reports 6 responses 25 phone calls 1 request | 40 hours/2 hours 8 hours 10 minutes 16 hours | 88 48 4 16 | 5,632 3,072 256 2,512
244.19—Disposition —Comments on Proposed SIP Amendments | 8 railroads | 2 reports | 16 hours | 32 | 2,048

Total Responses: 60.

Estimated Total Annual Burden: 528 hours.

Status: Extension of a currently approved collection.

Title: Locomotive Crashworthiness.

OMB Control Number: 2130-0564.

Abstract: In a final rule published June 28, 2006, the Federal Railroad Administration (FRA) issued comprehensive standards for locomotive crashworthiness. These crashworthiness standards are intended to help protect locomotive cab occupants in the event of a locomotive collision. The collection of information is used by FRA to ensure that locomotive manufacturers and railroads meet minimum performance standards and design load requirements for newly manufactured and re-manufactured locomotives in order to help protect locomotive cab occupants in the event that one of these covered locomotives collides with another locomotive, the rear of another train, a piece of on-track equipment, a shifted load on a freight car on an adjacent parallel track, or a highway vehicle at a rail-highway grade crossing.

Form Number(s): N/A.

Affected Public: Railroads.

Respondent Universe: 685 railroads/4 locomotive manufacturers.

Frequency of Submission: On occasion.

CFR Section | Respondent universe | Total annual responses | Average time per response | Total annual burden hours
229.207—Petition for FRA Approval of New Locomotive Crashworthiness Standards —Petition for FRA Approval of Substantive Change to FRA-Approved Crashworthiness Design Standard —Petition for FRA Approval of Non-Substantive Change to FRA-Approved Crashworthiness Design Standard | 685 Railroads + 4 Loco. Manufacturers 685 Railroads + 4 Loco. Manufacturers 685 Railroads + 4 Loco. Manufacturers | 2 petitions 1 petition 1 petitions | 1,050 hours 1,050 hours 400 hours | 2,100 1,050 400
229.209—Petition for FRA Approval of Alternative Locomotive Crashworthiness Design Standard | 685 Railroads + 4 Loco. Manufacturers | 1 petition | 2,550 hours | 2,550
229.211—Comments on FRA Notice of Petitions Received by Agency —Agency Request for Additional Information Concerning Petitions: Hearings | 4 Loco. Manuf./RR Association/Labor Organizations/Public 685 Railroads/4 Loco. Manuf./Other Interested Parties/Public | 10 comments 4 hearings (16 comments) | 16 hours 24 hours | 160 96
229.213—Locomotive Manufacturing Information: Retention of Required Info. | 685 Railroads | 1,000 records or stickers or badge plates | 6 minutes | 100
229.215—Retention of Records—Original Designs —Retention of Records—Repairs and Modifications —Inspection of Records | 4 Loco. Manuf. 685 Railroads 6 Loco. Manuf./Rebuilders | 24 loco. rcds. 6 records 10 records | 8 hours 4 hours 2 minutes | 192 24 .33

Total Responses: 1,059.

Estimated Total Annual Burden: 6,672 hours.

Status: Extension of a currently approved collection.

Title: Safety Appliance Concern Recommendation Report; Guidance Checklist Forms.

OMB Control Number: 2130-0565.

Abstract: In an ongoing effort to conduct more thorough and more effective inspections of railroad freight equipment and to further enhance safe rail operations, FRA has developed a safety concern recommendation report form, and a group of guidance checklist forms that facilitate railroad, rail car owner, and rail equipment manufacturer compliance with agency Railroad Safety Appliance Standards regulations. In lieu of completing an official inspection report (Form FRA F 6180.96), which takes subject railroad equipment out of service and disrupts rail operations, Form FRA F 6180.4a enables Federal and State safety inspectors to report to agency headquarters systemic or other safety concerns. FRA headquarters safety specialists can then contact railroads, car owners, and equipment manufacturers to address the reported issue(s) and institute necessary corrective action(s) in a timely fashion without unnecessarily having to take affected rail equipment out of service, unless deemed defective. Forms FRA F 6180.4(b)-(m) are used in conjunction with the Special Inspection of Safety Appliance Equipment form (Form FRA F 6180.4) to assist Federal Motive, Power, and Equipment (MP&E) field inspectors in ensuring that critical sections of 49 CFR part 231 (Railroad Safety Appliance Standards), pertaining to various types of freight equipment, are complied with through use of a check-off list. By simplifying their demanding work, check-off lists for 12 essential sections of Part 231 ensure that FRA MP&E field personnel completely and thoroughly inspect each type of freight car for compliance with its corresponding section in Part 231. The Guidance Checklist forms may later be used by state field inspectors as well. FRA believes that this collection of information will result in improved construction of newly designed freight cars and improved field inspections of all freight cars currently in use. This, in turn, will serve to reduce the number of accidents/incidents and corresponding injuries and fatalities that occur every year due to unsafe or defective equipment that was not promptly repaired/replaced.

Form Number(s): FRA F 6180.4(a)-(m).

Affected Public: Businesses.

Reporting Burden:

Form No. | Respondent universe | Total annual responses | Average time per response (min) | Total annual burden hours
FRA F 6180.4a—MP& E Safety Concern and Recommendation Report | 130 Fed'l & State Inspectors | 30 Forms | 60 | 30
FRA F 6180.4b—Check List Sec. 231.1 | 130 Fed'l & State Inspectors | 10 Forms | 60 | 10
FRA F 6180.4c—Check List Sec. 231.2 | 130 Fed'l & State Inspectors | 30 Forms | 60 | 30
FRA F 6180.4d—Check List Sec. 231.3 | 130 Fed'l & State Inspectors | 3 Forms | 60 | 3
FRA F 6180.4e—Check List Sec. 231.4 | 130 Fed'l & State Inspectors | 15 Forms | 60 | 15
FRA F 6180.4f—Check List Sec. 231.5 | 130 Fed'l & State Inspectors | 5 Forms | 60 | 5
FRA F 6180.4g—Check List Sec. 231.6 | 130 Fed'l & State Inspectors | 30 Forms | 60 | 30
FRA F 6180.4h—Check List 231.7 | 130 Fed'l & State Inspectors | 3 Forms | 60 | 3
FRA F 6180.4i—Check List Sec. 231.8 | 130 Fed'l & State Inspectors | 5 Forms | 60 | 5
FRA F 6180.4j—Check List Sec. 231.9 | 130 Fed'l & State Inspectors | 5 Forms | 60 | 5
FRA F 6180.4k—Check List Sec. 231.21 | 130 Fed'l & State Inspectors | 10 Forms | 60 | 10
FRA F 6180.4l—Check List Sec. 231.27 | 130 Fed'l & State Inspectors | 10 Forms | 60 | 10
FRA F 6180.4m—Check List Sec. 231.28 | 130 Fed'l & State Inspectors | 10 Forms | 60 | 10
FRA F 6180.4n—Check List Sec. 231.138 | 130 Fed'l & State Inspectors | 5 Forms | 30 | 3
FRA F 6180.4o—Check List Sec. 231.14 | 130 Fed'l & State Inspectors | 5 Forms | 30 | 3
FRA F 6180.4p—Check List Sec. 231.29 | 130 Fed'l & State Inspectors | 5 Forms | 60 | 5
FRA F 6180.4q—Check List Sec. 231.29 | 130 Fed'l & State Inspectors | 5 Forms | 60 | 5

Respondent Universe: Federal and State Safety Inspectors.

Frequency of Submission: On occasion.

Total Responses: 186 forms.

Estimated Total Annual Burden: 182 hours.

Status: Extension of a currently approved collection.

Title: Passenger Train Emergency Systems.

OMB Control Number: 2130-0576.

Abstract: The collection of information is due to passenger train emergency regulations set forth in 49 CFR 238 to further the safety of passenger train occupants through both enhancements and additions to FRA's existing requirements. The collection of information is used by FRA, railroad employees, rescue workers, and the public. Emergency responders use the information collected to be able to quickly find and understand how to operate passenger cars' emergency windows, doors, and roof hatches so that they can successfully perform their jobs and save lives. The information collected is used by train passengers to: (1) Recognize and immediately report potential emergencies to train crew members; (2) recognize hazards; (3) recognize and know how and when to operate appropriate emergency-related features and equipment, such as fire extinguishers, train doors, and emergency exits; and (4) recognize the potential special needs of fellow passengers, such as children, the elderly, and disabled, during an emergency; and (5) know how to quickly and safely evacuate the train in the event of an emergency, such as a collision, derailment, explosion, fire, or some other unanticipated occurrence. Luminescent or lighted emergency exit markings are used by train passengers and emergency responders to determine where the closest and most accessible emergency exit is located as well as how to operate the emergency exit mechanisms. Records of the inspection, maintenance, and repairs of emergency window and door exits and operational efficiency tests are used by FRA inspectors to monitor railroads' regulatory compliance with this Part.

Form Number(s): N/A.

Affected Public: Businesses.

Reporting Burden:

49 CFR 238 | Respondent universe | Total annual responses | Average time per response | Total annual burden hours
238.113—Emergency Window Exits—Markings | 22 railroads | 662 window markings | 60 minutes/90 minutes/120 minutes | 964
238.114-Rescue Access Windows | 22 railroads | 1,092 access window markings | 45 minutes | 819
238.121—Emergency Communications—Marked Intercom Locations | 22 railroads | 116 marked intercom locations | 5 minutes | 10
238.123—Emergency Road Access—Markings and Instructions | 22 railroads | 232 marked roof access locations | 30 minutes | 116
238.303—Exterior Calendar Day Mechanical Inspection of Equip | 22 railroads | 150 required replacement markings | 20 minutes | 50
—Rescue Access Exterior Markings/Signage/Instructions | 22 railroads | 150 records | 2 minutes | 5
—Records of Non-Compliance
238.305—Interior Calendar Day Mechanical Inspection of Cars.
—Written Notification to Train Crew of Non-compliant Car + Notice on Door | 22 railroads | 260 notifications + 260 notices | 1 minute | 9
—Inoperative PA system and Notification to Crew | 22 railroads | 300 notifications | 1 minute | 5
—Records of Non-complying Condition | 22 railroads | 300 records | 2 minutes | 10
238.307—Periodic Mechanical Inspection of Pass. Cars—Replacement Roof Access Markings | 22 railroads | 32 replacement markings | 20 minutes | 11

Respondent Universe: Businesses (railroads).

Frequency of Submission: On occasion.

Total Responses: 3,554.

Estimated Total Annual Burden: 1,999 hours.

Status: Extension of a currently approved collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on October 13, 2010.
Kimberly Coronel,
Director, Office of Financial Management, Federal Railroad Administration.

[FR Doc. 2010-26158 Filed 10-15-10; 8:45 am]

BILLING CODE 4910-06-P